NUCLEAR REGULATORY COMMISSION

10 CFR Part 50

[Docket Nos. PRM-50-93 and PRM-50-95; NRC-2009-0554]

Mark Edward Leyse; Mark Edward Leyse and Raymond Shadis, on Behalf of the New England Coalition; Petitions for Rulemaking

AGENCY: Nuclear Regulatory Commission.

ACTION: Notice of consolidation of petitions for rulemaking and re-opening of comment period.

SUMMARY: The Nuclear Regulatory Commission (NRC) is publishing for public comment a notice of consolidation of petitions for rulemaking (PRM). The PRMs to be consolidated are PRM-50-93 filed by Mark Edward Leyse on November 17, 2009, and PRM-50-95 filed on June 7, 2010, by Mark Edward Leyse and Raymond Shadis, on behalf of the New England Coalition (the Petitioners). PRM-50-95 was docketed by the NRC on September 30, 2010. In PRM-50-95, the Petitioners request that the NRC order Vermont Yankee Nuclear Power Station (Vermont Yankee) to lower the licensing basis peak cladding temperature in order to provide a necessary margin of safety in the event of a loss-of-coolant accident (LOCA). The NRC is considering PRM-50-95 in conjunction with existing PRM-50-93 that the NRC is reviewing on the same issues, and is re-opening the public comment period to consider the matters raised by PRM-50-95.

DATES: Submit comments by November 26, 2010. Comments received after this date will be considered if it is practical to do so, but the NRC is able to assure consideration only for comments received on or before this date.

ADDRESSES: Please include Docket ID NRC-2009-0554 in the subject line of your comments. For instructions on submitting comments and accessing documents related to this action, see “Submitting Comments and Accessing Information” in the SUPPLEMENTARY INFORMATION section of this document. You may submit comments by any one of the following methods.

Federal Rulemaking Web Site: Go to http://www.regulations.gov and search for documents filed under Docket ID NRC-2009-0554. Address questions about NRC dockets to Carol Gallagher, 301-492-3668, e-mail Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1677.

Hand-deliver comments to: 11555 Rockville Pike, Rockville, Maryland 20852, between 7:30 a.m. and 4:15 p.m. Federal workdays (telephone 301-415-1677).

Fax comments to: Secretary, U.S. Nuclear Regulatory Commission at 301-415-1101.

FOR FURTHER INFORMATION CONTACT: Cindy Bladey, Chief, Rules, Announcements, and Directives Branch, Division of Administrative Services, Office of Administration, U.S. Nuclear Regulatory Commission, Washington, DC 20555-0001, Telephone: 301-492-3667 or Toll Free: 800-368-5642.

SUPPLEMENTARY INFORMATION:

Submitting Comments and Requesting Information

Comments submitted in writing or in electronic form will be posted on the NRC Web site and on the Federal Rulemaking Web site, http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this action using the following methods:

NRC's Public Document Room (PDR): The public may examine and have copied for a fee publicly available documents by the NRC's PDR, Room O-1 F21, One White Flint North, 11555 Rockville Pike, Rockville, Maryland.

NRC's Agencywide Documents Access and Management System (ADAMS): Publicly available documents created or received at the NRC, including petitions for rulemaking PRM-50-93 (ADAMS Accession No. ML093290250) and PRM-50-95 (ADAMS Accession No. ML101610121), are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR Reference staff at 800-397-4209, 301-415-4737 or by e-mail to pdr.resource@nrc.gov.

Federal Rulemaking Web Site: Public comments and supporting materials related to this action, including the petitions for rulemaking, can be found at http://www.regulations.gov by searching on Docket ID NRC-2009-0554.

Summary of PRM-50-93

Mark Edward Leyse submitted a petition for rulemaking dated November 17, 2009. Mr. Leyse states that he is aware that data from multi-rod (assembly) severe fuel damage experiments indicates that the current regulations in 10 CFR Part 50 are non-conservative in their peak cladding temperature limit of 2200 °F, and that the Baker-Just and Cathcart-Pawel equations are also non-conservative for calculating the metal-water reaction rates that would occur in the event of a LOCA. As a result, Mr. Leyse requests that the NRC revise its regulations in 10 CFR 50.46(b)(1) and Appendix K to 10 CFR Part 50 based on this data. Mr. Leyse also requests that the NRC promulgate a regulation that will stipulate minimum allowable core reflood rates in the event of a LOCA. The NRC determined that the petition met the threshold sufficiency requirements for a petition for rulemaking under 10 CFR 2.802, and the petition was docketed as PRM-50-93. The NRC published a notice of receipt on January 25, 2010 (75 FR 3876), and requested public comment on PRM-50-93. The comment period closed on April 12, 2010.

Summary of PRM-50-95

On June 7, 2010, Mark Edward Leyse and Raymond Shadis, on behalf of the New England Coalition, submitted a petition requesting consideration under the NRC's requirements for a petition for an enforcement action, which are in 10 CFR 2.206. The Petitioners request that enforcement action be taken against Vermont Yankee, and that the NRC order the licensee of Vermont Yankee to lower the licensing basis peak cladding temperature in order to provide a necessary margin of safety (to help prevent a meltdown) in the event of a LOCA. The Petitioners represent the New England Coalition, a non-profit educational organization based in Brattleboro, Vermont.

The Petitioners offer the following as the basis for their request:

(1) The emergency core cooling system evaluation calculations that helped qualify the 20 percent uprate for Vermont Yankee are non-conservative;

(2) The peak cladding temperature limit of 2200 °F used in the NRC's regulations in § 50.46(b)(1) is non-conservative; and

(3) Experiments indicate that Vermont Yankee's licensing basis peak cladding temperature of 1960 °F for GE14 fuel would not provide a necessary margin of safety to help prevent a partial or complete meltdown in the event of a LOCA.

The petition discusses at length a number of experiments, including several multi-rod severe fuel damage experiments and a multi-rod thermal hydraulic experiment, and states that the data indicates that the licensing basis peak cladding temperature for Vermont Yankee should be decreased to a temperature lower than 1832 °F in order to provide a necessary margin of safety. The petition attachments include additional data in support of the discussion on these experiments.

The NRC's Consideration and Conclusion

The petition request was referred to the NRC's Office of Nuclear Reactor Regulation's enforcement Petition Review Board (PRB) and on June 23, 2010, the Petitioners participated in a teleconference with the PRB to provide information in support of the petition. A transcript of this teleconference is available at ADAMS Accession No. ML101890014. The PRB's initial recommendation was that the petition did not meet the criteria for reviewing petitions under 10 CFR 2.206, because there is another NRC proceeding in which the Petitioners could be a party and through which the NRC could address their concerns.

On July 26, 2010, the Petitioners participated in another teleconference with the PRB during which the initial recommendation was discussed and the Petitioners provided additional information. The transcript of this teleconference is available at ADAMS Accession No. ML102140405. The PRB's final recommendation was that the petition did not meet the criteria for review under 10 CFR 2.206 because the petition submitted generic concerns that would require revisions to existing NRC regulations. Such concerns are handled through the petition for rulemaking process in accordance with 10 CFR 2.802. The PRB noted that Mr. Leyse had previously submitted a petition for rulemaking on this topic, dated November 17, 2009, and docketed as PRM-50-93. Therefore, the PRB forwarded the 10 CFR 2.206 petition so that any additional information contained in the petition could be included in the review of PRM-50-93. The NRC has determined that the petition filed by Mr. Leyse and Mr. Shadis on behalf of the New England Coalition meets the threshold sufficiency requirements for a petition for rulemaking under 10 CFR 2.802, and the petition has been docketed as PRM-50-95. The NRC is requesting public comments on the petition for rulemaking, and has decided to consider any comments received on PRM-50-95 in conjunction with comments received on the related petition, PRM-50-93. In order that both petitions for rulemaking can be considered and resolved in a timely manner, the NRC is limiting the public comment period for PRM-50-95 to 30 days, and will only be accepting comments on matters raised in PRM-50-95 during this time.

Dated at Rockville, Maryland, this 21st day of October 2010.
For the Nuclear Regulatory Commission.
Annette Vietti-Cook,
Secretary of the Commission.

[FR Doc. 2010-27164 Filed 10-26-10; 8:45 am]

BILLING CODE 7590-01-P